FEDERAL COMMUNICATIONS COMMISSION

47 CFR Part 79

[MB Docket Nos. 12-108, 12-107; FCC 13-138]

Accessibility of User Interfaces, and Video Programming Guides and Menus

AGENCY: Federal Communications Commission.

ACTION: Correcting amendments.

SUMMARY: This document contains corrections to the final regulations, which were published in the Federal Register of Friday, December 20, 2013 (78 FR 77209). The final regulations divided portions of 47 CFR part 79 improperly. This document correctly divides part 79.

DATES: Effective February 10, 2014. Sections 79.107(c), 79.108(a)(5), 79.108(c) through (e), and 79.110, which were published December 20, 2013 (78 FR 77210), contain information collection requirements that are not effective until approved by the Office of Management and Budget. The Commission will publish a document in the Federal Register announcing the effective date for those sections.

FOR FURTHER INFORMATION CONTACT: Adam Copeland, Adam.Copeland@fcc.gov, or Maria Mullarkey, Maria.Mullarkey@fcc.gov, of the Policy Division, Media Bureau, (202) 418-2120.

SUPPLEMENTARY INFORMATION:

Background

The final regulations divided 47 CFR part 79 into two subparts, Subpart A, consisting of §§ 79.100 through 79.106, and Subpart B, consisting of §§ 79.107 through 79.110. The division improperly omitted pre-existing §§ 79.1 through 79.4. This correction properly divides 47 CFR part 79 into Subpart A, consisting of §§ 79.1 through 79.4, and Subpart B, consisting of §§ 79.100 through 79.110.

Need for Correction

As published, the final regulations improperly omitted existing sections of 47 CFR part 79 and divided part 79 improperly and need to be corrected to remedy these errors.

List of Subjects in 47 CFR Part 79

Cable television operators, Communications equipment, Multichannel video programming distributors (MVPDs), Satellite television service providers.

Accordingly, 47 CFR part 79 is corrected by making the following correcting amendments:

PART 79—ACCESSIBILITY OF VIDEO PROGRAMMING

1. The authority citation for part 79 continues to read as follows:

Authority: 47 U.S.C. 151, 152(a), 154(i), 303, 307, 309, 310, 330, 544a, 613, 617.

2. The heading for part 79 is revised to read as set forth above.

3. Transfer §§ 79.1 through 79.4 to subpart A.

4. Transfer §§ 79.100 through 79.106 from subpart A to subpart B.

Federal Communications Commission.
Marlene H. Dortch,
Secretary.

[FR Doc. 2014-02234 Filed 2-7-14; 8:45 am]

BILLING CODE 6712-01-P